NUCLEAR REGULATORY COMMISSION

Request for a License To Import Radioactive Waste

Pursuant to 10 CFR 110.70 (b) “Public Notice of Receipt of an Application,” please take notice that the Nuclear Regulatory Commission (NRC) has received the following request for an import license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.rnc.gov/site-help/e-submittals.html. To ensure timely electronic filing, at least 5 (five) days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this import license application follows.

NRC Import License Application

Description of Application

Name of applicant Date of application Date received Application No. Docket No. | Material type | Total quantity | End use | Country of origin
Oregon Specialty Metals August 30, 2010 August 31, 2010 IW028 11005875 | Radioactive Waste consisting of contaminated mixed metals, filter cake, spent metal shot, trash and protective clothing exported under NRC export licenses XW003 and XW007 | 186,000 kilograms of materials contaminated with 2.613 kilograms of U-235 contained in 58.575 kilograms uranium | Return of U.S. origin metals to Alaron Corporation in Wampum, PA for processing and then to Energy Solutions, LLC site in Clive, Utah for management and disposal | Canada (originally U.S.).

Dated this 26th day of October 2010 at Rockville, Maryland.
For the Nuclear Regulatory Commission.
Stephen Dembek,
Acting Deputy Director, Office of International Programs.

[FR Doc. 2010-28258 Filed 11-8-10; 8:45 am]

BILLING CODE 7590-01-P